DEPARTMENT OF HEALTH AND HUMAN SERVICES

45 CFR Part 1

Removal of Obsolete Provisions

AGENCY: Office of the Secretary, HHS.

ACTION: Direct final rule.

SUMMARY: Much of the information set out in certain regulations regarding HHS's programs and activities is obsolete. Also, electronic resources are now available that did not exist when this part was first codified. This rule removes these obsolete regulations.

DATES: This action is effective August 17, 2015 without further action, unless adverse comment is received by July 20, 2015 If adverse comment is received, HHS will publish a timely cancellation of the action in the Federal Register.

ADDRESSES: Interested persons are invited to submit comments concerning this action. You may submit electronic comments to http://www.regulations.gov. Follow the “Submit a comment” instructions. Or, you may mail paper comments as follows: Madhura Valverde, Suite 639G, 200 Independence Avenue SW., Washington, DC 20201. (Please allow sufficient time for mailed comments to be received before the close of the comment period). If you wish to deliver paper comments in person or by courier, please call (202) 690-6827 or (202) 205-9165, to schedule the delivery with one of our staff members.

FOR FURTHER INFORMATION CONTACT: Madhura Valverde, Executive Secretary, U.S. Department of Health and Human Services, Washington, DC 20201 (madhura.valverde@hhs.gov).

SUPPLEMENTARY INFORMATION: The provisions of 45 CFR part 1, specifying the CFR locations of regulations for HHS's programs and activities, and regarding the subject matter of the Office of the Secretary regulations, have not been updated since 1987. These regulations have become obsolete and inaccurate. At the time they were added to the CFR, it was felt that this material would prove helpful to the public. However, the growth of electronic accessibility to regulations through such governmental sources as:

—Office of the Federal Register's (OFR) List of CFR Subjects (www.archives.gov/federalrgeister/cfr/subjects.htm);

—OFR's Electronic Code of Federal Regulations (www.ecfr.gov);

—OFR's annual CFR

○ (www.gpo.gov/fdsys/browse/collectionCfr.action?collectionCode=CFR);

—HHS's Web site (www.hhs.gov/regulations);

as well as numerous commercial web browsers, have greatly improved the public's access to, and ability to search our regulations. Because of this increased accessibility, and in response to Executive Order 13563, Sec. 6, which urges agencies to “repeal” existing regulations that are “outmoded”, HHS is removing 45 CFR part 1.

Notice and comment are not required for this rule, because it affects agency organization, procedure, or practice under 5 U.S.C. 553(b)(A). Furthermore, HHS believes that there is good cause hereby to bypass notice and comment, and to proceed to a direct final rule, pursuant to 5 U.S.C. 553 (b)(B). The action is non-controversial, merely removing information from the CFR that is obsolete and inaccurate, and whose current locations are otherwise readily available. This rule posed no new substantive requirements on the public. Accordingly, HHS believes this direct final rule will not elicit any significant adverse comments, but if such comments are received HHS will publish a timely notice of withdrawal in the Federal Register.

Executive Order 12866

This action does not meet the criteria for a significant regulatory action as set out under Executive Order 12866, and review by the Office of Management and Budget has accordingly not been required.

Regulatory Flexibility Act

This action will not have a significant economic impact on a substantial number of small entities. Therefore, the regulatory flexibility analysis provided for under the Regulatory Flexibility Act is not required.

Paperwork Reduction Act

This action does not impose any information collection requirements under the Paperwork Reduction Act.

List of Subjects in 45 CFR Part 1

Code of Federal Regulations, Organization and functions (Government agencies).

For reasons set out in the preamble, and under the authority at 5 U.S.C. 301, HHS amends 45 CFR subchapter A by removing part 1.

PART 1—[REMOVED AND RESERVED]

Dated: June 5, 2015.
Sylvia M. Burwell,
Secretary.

[FR Doc. 2015-14424 Filed 6-17-15; 8:45 am]

BILLING CODE P